DEPARTMENT OF THE INTERIOR

Office of the Secretary, Exxon Valdez Oil Spill Trustee Council; Notice of Meeting

AGENCY: Office of the Secretary, Department of the Interior.

ACTION: Notice of meeting.

SUMMARY: The Department of the Interior, Office of the Secretary is announcing a public meeting of the Exxon Valdez Oil Spill Public Advisory Committee.

DATES: December 3-4, 2002, at 8:30 a.m.

ADDRESSES: Fifth floor conference room, 441 West 5th Avenue, Anchorage, Alaska.

FOR FURTHER INFORMATION CONTACT: Douglas Mutter, Department of the Interior, Office of Environmental Policy and Compliance, 1689 “C” Street, Suite 119, Anchorage, Alaska, (907) 271-5011.

SUPPLEMENTARY INFORMATION: The Public Advisory Committee was created by Paragraph V.A.4 of the Memorandum of Agreement and Consent Decree entered into by the United States of America and the State of Alaska on August 27, 1991, and approved by the United States District Court for the District of Alaska in settlement of United States of America v. State of Alaska, Civil Action No. A91-081 CV. The meeting agenda will feature a comprehensive briefing for new Public Advisory Committee members, discussions about the status of the Gulf of Alaska Ecosystem Monitoring and Research program, an update on lingering oil injury, and a review of the habitat protection program.

Willie R. Taylor,
Director, Office of Environmental Policy and Compliance.

[FR Doc. 02-29080 Filed 11-14-02; 8:45 am]

BILLING CODE 4310-RG-P